DEPARTMENT OF HEALTH AND HUMAN SERVICES

National Institutes of Health

Eunice Kennedy Shriver National Institute of Child Health & Human Development; Notice of Meetings

Pursuant to section 10(a) of the Federal Advisory Committee Act, as amended (5 U.S.C. App.), notice is hereby given of meetings of the National Children's Study Advisory Committee.

The meetings will be open to the public, with attendance limited to space available. Individuals who plan to attend and need special assistance, such as sign language interpretation or other reasonable accommodations, should notify the Contact Person listed below in advance of the meeting.

Name of Committee: National Children's Study Advisory Committee.

Date: May 26-27, 2009.

Time: May 26, 2009, 8:30 a.m. to 10 a.m.

Agenda: This portion of the meeting is being held to conduct new member orientation.

Place: Hilton Washington/Rockville, 1750 Rockville Pike, Rockville, MD 20852.

Time: May 26, 2009, 10 a.m. to 5:30 p.m.

Agenda: The agenda will include an update on the current status of the Study, a session on Childhood Obesity, an update on the status of the Independent Study Monitoring and Oversight Committee, a report from the Vandguard Centers, and other topics of interest.

Place: Hilton Washington/Rockville, 1750 Rockville Pike, Rockville, MD 20852.

Time: May 27, 2009, 8:30 a.m. to 4 p.m.

Agenda: There will be a subcommittee breakout session of the three Subcommittees: Scientific Review, Ethics, and Community Outreach and Engagement.

Place: Hilton Washington/Rockville, 1750 Rockville Pike, Rockville, MD 20852.

Contact Person: Jessica Sapienza, Executive Secretary, National Children's Study, Eunice Kennedy Shriver National Institute of Child Health and Human Development, NIH, 6100 Executive Blvd., Room 3A01, Bethesda, MD 20892, (703) 902-1339, ncs@circlesolutions.com.

This meeting is being published less than 15 days prior to the meeting due to timing limitations imposed by administrative matters.

Name of Committee: National Children's Study Advisory Committee; Scientific Review Subcommittee.

Date: May 26, 2009.

Time: 2:30 p.m. to 4 p.m.

Agenda: The agenda will include a discussion on childhood obesity and the Committee's role in scientific review.

Place: Hilton Washington/Rockville, 1750 Rockville Pike, Rockville, MD 20852.

Contact Person: Jessica Sapienza, Executive Secretary, National Children's Study, Eunice Kennedy Shriver National Institute of Child Health and Human Development, NIH, 6100 Executive Blvd., Room 3A01, Bethesda, MD 20892, (703) 902-1339, ncs@circlesolutions.com.

This meeting is being published less than 15 days prior to the meeting due to timing limitations imposed by administrative matters.

Name of Committee: National Children's Study Advisory Committee; Ethics Subcommittee.

Date: May 26, 2009.

Time: 2:30 p.m. to 4 p.m.

Agenda: The agenda will include a discussion on current ethical issues in the National Children's Study.

Place: Hilton Washington/Rockville, 1750 Rockville Pike, Rockville, MD 20852.

Contact Person: Jessica Sapienza, Executive Secretary, National Children's Study, Eunice Kennedy Shriver National Institute of Child Health and Human Development, NIH, 6100 Executive Blvd., Room 3A01, Bethesda, MD 20892, (703) 902-1339, ncs@circlesolutions.com.

This meeting is being published less than 15 days prior to the meeting due to timing limitations imposed by administrative matters.

Name of Committee: National Children's Study Advisory Committee; Community Outreach and Engagement Subcommittee.

Date: May 26, 2009.

Time: 2:30 p.m. to 4 p.m.

Agenda: The agenda will include an update on community engagement in the National Children's Study.

Place: Hilton Washington/Rockville, 1750 Rockville Pike, Rockville, MD 20852.

Contact Person: Jessica Sapienza, Executive Secretary, National Children's Study, Eunice Kennedy Shriver National Institute of Child Health and Human Development, NIH, 6100 Executive Blvd., Room 3A01, Bethesda, MD 20892, (703) 902-1339, ncs@circlesolutions.com.

This meeting is being published less than 15 days prior to the meeting due to timing limitations imposed by administrative matters.

Any interested person may file written comments with the committee by forwarding the statement to the Contact Person listed on this notice. The statement should include the name, address, telephone number and when applicable, the business or professional affiliation of the interested person.

(Catalogue of Federal Domestic Assistance Program Nos. 93.864, Population Research; 93.865, Research for Mothers and Children; 93.929, Center for Medical Rehabilitation Research; 93.209, Contraception and Infertility Loan Repayment Program, National Institutes of Health, HHS)

Dated: May 12, 2009.
Jennifer Spaeth,
Director, Office of Federal Advisory Committee Policy.

[FR Doc. E9-11577 Filed 5-19-09; 8:45 am]

BILLING CODE 4140-01-M